DEPARTMENT OF DEFENSE

Office of the Secretary

Uniformed Services University of the Health Sciences; Meeting Notice

Agency Holding the Meeting: Uniformed Services University of the Health Sciences.

Time and Date: 8 a.m. to 4 p.m., November 9, 2004.

Place: Uniformed Services University of the Health Sciences, Board of Regents Conference Room (D3001) 4301 Jones Bride Road, Bethesda, MD 20814-4799.

Status: Open—under “Government in the Sunshine Act” (5 U.S.C. 552b(e)(3)).

Matters To Be Considered:

8 a.m. Meeting—Board of Regents

(1) Approval of Minutes—August 3, 2004

(2) Faculty Matters

(3) Departmental Reports

(4) Financial Report

(5) Report—Interim President, USUHS

(6) Report—Dean, School of Medicine

(7) Report—Dean, Graduate School of Nursing

(8) Approval of Degrees—School of Medicine, Graduate School of Nursing

(9) Comments—Chairman, Board of Regents

(10) New Business

Contact Person for More Information: Dr. Barry Wolcott, Executive Secretary, Board of Regents, (301) 295-3681.

Dated: October 7, 2004.
L.M. Bynum,
OSD Federal Register Liaison Officer, Department of Defense.

[FR Doc. 04-23111 Filed 10-8-04; 3:30 pm]

BILLING CODE 5001-06-M